DEPARTMENT OF HEALTH AND HUMAN SERVICES

Health Resources and Services Administration

Meeting of the CDC/HRSA Advisory Committee on HIV, Viral Hepatitis and STD Prevention and Treatment

AGENCY: Health Resources and Services Administration (HRSA), Department of Health and Human Services (HHS).

ACTION: Notice.

SUMMARY: In accordance with the Federal Advisory Committee Act, this notice announces that the Centers for Disease Control and Prevention (CDC)/HRSA Advisory Committee on HIV, Viral Hepatitis and STD Prevention and Treatment (CHAC) has scheduled a public meeting.

DATES: November 5, 2020, 2:00 p.m.-5:15 p.m. Eastern Time (ET) and November 6, 2020, 2:00 p.m.-5:15 p.m. ET. The deadline for online registration is 12:00 p.m. ET on November 2, 2020.

ADDRESSES: This meeting will be held virtually. Please visit the meeting information page to register: https://chacfall2020.org.

FOR FURTHER INFORMATION CONTACT: Theresa Jumento, Senior Public Health Advisor, HIV/AIDS Bureau, HRSA, 5600 Fishers Lane, Rockville, Maryland 20857; 301-443-5807; or CHACAdvisoryComm@hrsa.gov.

SUPPLEMENTARY INFORMATION: CHAC was established under section 222 of the Public Health Service Act, [42 U.S.C. 217a], as amended.

The purpose of CHAC is to advise the Secretary, HHS; the Director, CDC; and the Administrator, HRSA regarding objectives, strategies, policies, and priorities for HIV, viral hepatitis, and other STDs; prevention and treatment efforts including surveillance of HIV infection, viral hepatitis, and other STDs, and related behaviors; epidemiologic, behavioral, health services, and laboratory research on HIV, viral hepatitis, and other STDs; identification of policy issues related to HIV/viral hepatitis/STD professional eduction, patient healthcare delivery, and prevention services; agency policies about prevention of HIV, viral hepatitis and other STDs; treatment, healthcare delivery, and research and training; strategic issues influencing the ability of CDC and HRSA to fulfill their missions of providing prevention and treatment services; programmatic efforts to prevent and treat HIV, viral hepatitis, and other STDs; and support to the agencies in their developoment of responses to emerging health needs related to HIV, viral hepatitis, and other STDs.

During the November 5-6, 2020, meeting, CHAC will discuss community engagement activities related to the President's initiative on “Ending the HIV Epidemic: A Plan for America” and the COVID-19 pandemic. CHAC will also discuss the needs and challenges of HIV prevention and care for women. Agenda items are subject to change as priorities dictate. Refer to the CHAC meeting information page for any updated information concerning the meeting.

While this meeting is open to the public, advance registration is required. Members of the public will have the opportunity to provide comments. Requests to offer oral comments will be accepted in the order they are received and may be limited as time allows. Public participants may also submit written statements as further described below. To submit written comments or to request time for an oral comment at the meeting, please register online by 12:00 p.m. ET on October 28, 2020.

Information about CHAC can be found on the CHAC website at https://www.cdc.gov/maso/facm/facmCHACHSPT.html. Visit the meeting information page for additional details https://chacfall2020.org. Individuals who plan to attend and need special assistance or another reasonable accommodation should notify Theresa Jumento at the email address and phone number listed above at least 10 business days prior to the meeting.

Maria G. Button,
Director, Executive Secretariat.

[FR Doc. 2020-20943 Filed 9-28-20; 8:45 am]

BILLING CODE 4165-15-P